DEPARTMENT OF EDUCATION

[CFDA No. 84.255A]

Office of Safe and Drug Free Schools—Life Skills for State and Local Prisoners Program; Notice Inviting Applications for New Awards Using Fiscal Year (FY) 2002 Funds

Purpose of Program: The Life Skills for State and Local Prisoners Program provides financial assistance for establishing and operating programs designed to reduce recidivism through the development and improvement of life skills necessary for reintegration of adult prisoners into society.

Eligible Applicants: State or local correctional agencies and State or local correctional education agencies.

Applications Available: June 3, 2003.

Deadline for Transmittal of Applications: July 14, 2003.

Deadline for Intergovernmental Review: August 13, 2003.

Estimated Available Funds: $4,750,000.

Estimated Range of Awards: $315,000-$475,000

Estimated Average Size of Awards: $395,000.

Estimated Number of Awards: 12.

Note: Estimates are based on FY 2002 appropriated funds only, for the first budget period of each grant. The Department plans to use FY 2003 funds appropriated for this program to make continuation awards for the second budget period of these projects to grantees that demonstrate they are making substantial progress toward achieving the goals and objectives for their projects. The Department is not bound by any estimates in this notice.

Project Period: Up to 36 months.

Applicable Regulations: The Education Department General Administrative Regulations (EDGAR) in 34 CFR Parts 75, 77, 79, 80, 81, 82, 85, 97, 98, and 99.

Definitions: For purposes of this competition, terms used in this notice have the following meanings as found in 34 CFR 490.4:

Life skills includes self-development, communication skills, job and financial skills development, education, interpersonal and family relationship development, and stress and anger management.

Local correctional agency means any agency of local government that provides corrections services to incarcerated adults.

Local correctional education agency means any agency of local government, other than a local correctional agency, that provides educational services to incarcerated adults.

State correctional agency means any agency of State government that provides corrections services to incarcerated adults.

State correctional education agency means any agency of State government, other than a State correctional agency, that provides educational services to incarcerated adults.

Additional Awards: Contingent upon the availability of FY 2003 and FY 2004 funds, we may make additional awards under these appropriations from the rank-ordered list of unfunded applications from this competition.

Absolute Priority: Under 34 CFR 75.105(c)(3), we will consider only applications that meet the following absolute priority: Grants for projects that assist State or local correctional agencies and State or local correctional education agencies in establishing and operating programs designed to reduce recidivism through the development and improvement of life skills necessary for reintegration of adult prisoners into society.

Invitational Priorities: Within the absolute priority, we are particularly interested in applications that meet one or more of the following invitational priorities.

Invitational Priority 1. Projects that integrate life skills instruction and services under a comprehensive reentry plan with the State Serious and Violent Offender Reentry Initiative project funded by the U.S. Department of Justice.

Invitational Priority 2. Projects that emphasize cognitive and interpersonal skills such as goal setting, developing strong family relationships, strengthening values, and enhancing social skills.

Under 34 CFR 75.105(c)(1) we do not give an application that meets the invitational priorities a competitive or absolute preference over other applications.

Performance Measures: The Secretary has established the following key performance measure for assessing the effectiveness of the Life Skills for State and Local Prisoners Program: the number of prisoners who attain measurable gains in one or more of the life skill domains (e.g., self-development, communication skills, job and financial skills development, education, interpersonal and family relationship development, stress and anger management or others) taught under these Life Skills projects. The Secretary has set an overall performance target that calls for the number of prisoners acquiring enhanced life skills from the cohort of Life Skills grant program projects initiated under this competition to increase by five percent annually.

In applying the selection criteria that follow for “Quality of project services” and “Quality of the project evaluation”, the Secretary will take into consideration the extent to which the applicant demonstrates a strong capacity (1) to help achieve this target, and (2) to provide reliable data to the Department on the project's impact as measured by number of prisoners participating in Life Skills grants acquiring enhanced life skills.

Selection Criteria: We use the following selection criteria from 34 CFR 75.210 to evaluate applications for new grants under this competition. The maximum score for all of these criteria is 100 points. The maximum score for each criterion or factor under that criterion is indicated in parentheses.

(1) Significance. (20 points)—In determining the significance of the proposed project, the following factors are considered:

(a) The likelihood that the proposed project will result in system change or improvement.

(b) The potential contribution of the proposed project to the development and advancement of theory, knowledge, and practices in the field of study.

(c) The extent to which the proposed project is likely to build local capacity to provide, improve, or expand services that address the needs of the target population.

(d) The extent to which the proposed project is likely to yield findings that may be utilized by other appropriate agencies and organizations.

(2) Quality of the project design. (25 points)—In determining the quality of the design of the proposed project, the following factors are considered:

(a) The extent to which the goals, objectives, and outcomes to be achieved by the proposed project are clearly specified and measurable.

(b) The extent to which the design of the proposed project is appropriate to, and will successfully address, the needs of the target population or other identified needs.

(c) The extent to which the proposed project represents an exceptional approach for meeting statutory purposes and requirements.

(d) The extent to which the design for implementing and evaluating the proposed project will result in information to guide possible replication activities or strategies, including information about the effectiveness of the approach or strategies employed by the project.

(e) The extent to which the proposed project will establish linkages with other appropriate agencies and organizations providing services to the target population.

(3) Quality of project services. (25 points)—In determining the quality of the services to be provided by the proposed project, the following factors are considered:

(a) The quality and sufficiency of strategies for ensuring equal access and treatment for eligible project participants who are members of groups that have traditionally been underrepresented based on race, color, national origin, gender, age, or disability.

(b) The extent to which the services to be provided by the proposed project reflect up-to-date knowledge from research and effective practice.

(c) The extent to which the training or professional development services to be provided by the proposed project are of sufficient quality, intensity, and duration to lead to improvements in practice among the recipients of those services.

(d) The extent to which the services to be provided by the proposed project involve the collaboration of appropriate partners for maximizing the effectiveness of project services.

(4) Quality of the management plan. (10 points)—In determining the quality of the management plan for the proposed project, the following factor is considered:

(a) The adequacy of the management plan to achieve the objectives of the proposed project on time and within budget, including clearly defined responsibilities, timelines, and milestones for accomplishing project tasks.

(5) Quality of the project evaluation. (20 points)—In determining the quality of the evaluation, the following factors are considered:

(a) The extent to which the methods of evaluation are thorough, feasible, and appropriate to the goals, objectives, and outcomes of the proposed project.

(b) The extent to which the methods of evaluation include the use of objective performance measures that are clearly related to the intended outcomes of the project and will produce quantitative and qualitative data to the extent possible.

(c) The extent to which the methods of evaluation will provide performance feedback and permit periodic assessment of progress toward achieving intended outcomes.

(d) The extent to which the evaluation will provide guidance about effective strategies suitable for replication or testing in other settings.

For Applications Contact: Education Publications Center (ED Pubs), P.O. Box 1398, Jessup, MD 20794-1398. Telephone (toll free): 1-877-433-7827. Fax: (301) 470-1244. If you use a telecommunications device for the deaf, you may call 1-877-576-7734.

You may also contact ED Pubs at its Web site: http://www.ed.gov/pubs/edpubs/html. Or you may contact ED Pubs at its e-mail address: edpubs@inet.ed.gov.

If you request an application from ED Pubs, be sure to identify this competition as follows: CFDA number 84.255A.

Note: Some of the procedures in these instructions for transmitting applications differ from those in EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs, as well as discretionary grant competitions. The Life Skills for State and Local Prisoners Program is one of the programs included in the pilot project. If you are an applicant under this grant competition, you may submit your application to us in either electronic or paper format.

The pilot project involves the use of the Electronic Grant Application System (e-Application, formerly e-GAPS) portion of the Grant Administration and Payment System (GAPS). We invite your participation in this pilot project. We will continue to evaluate its success and solicit suggestions for improvement.

If you participate in this e-APPLICATION pilot, please note the following:

• Your participation is voluntary.

• You will not receive any additional point value or penalty because you submit a grant application in electronic or paper format.

• You can submit all documents electronically, including the Application for Federal Assistance (ED Form 424), Budget Information—Non-Construction Programs, (ED Form 524), and all necessary assurances and certifications.

• Within three working days of submitting your electronic application, fax a signed copy of the Application for Federal Assistance (ED Form 424) to the Application Control Center following these steps:

1. Print ED Form 424 from the e-Application system.

2. Make sure that the applicant's Authorizing Representative signs this form.

3. Before faxing this form, submit your electronic application via the e-Application system. You will receive an automatic acknowledgement, which will include a PR/Award number an identifying number unique to your application).

4. Place the PR/Award number in the upper right corner of ED Form 424.

5. Fax ED Form 424 to the Application Control Center within three business days of submitting your electronic application at (202) 260-1349.

6. We may request that you give us original signatures on all other forms at a later date.

7. Closing Date Extension in the Case of System Unavailability: If you elect to participate in the e-Application pilot for the Life Skills for State and Local Prisoners Program and you are prevented from submitting your application on the closing date because the e-Application system is unavailable, we will grant you an extension of one business day in order to transmit your application via e-Application, by mail, or by hand delivery. For us to grant this extension:

(1) You must be a registered user of e-Applications, and have initiated an e-Application for this competition; and

(2) (a) The e-Application system must be unavailable for 60 minutes or more between the hours of 8:30 a.m. and 3:30 p.m. (ET), on the deadline date; or

(b) The e-Application system must be unavailable for any period of time during the last hour of operation (that is, for any period of time between 3:30 p.m. and 4:30 p.m. Eastern time on the deadline date.

The Department must acknowledge and confirm the period of unavailability before you will be granted an extension. To request this extension you must contact Carlette Huntley by e-mail at Carlette.Huntley@ed.gov or by telephone at (202) 260-7274 or the e-Grants help desk at (888) 336-8930.

You may access the electronic grant application for the Life Skills for State and Local Prisoners Program at: http://e-grants.ed.gov.

We have included additional information on the e-Application pilot project (see Parity Guidelines between paper and Electronic Applications) in the application package.

If you want to apply for a grant and be considered for funding, you must meet the deadline requirements included in this notice.

FOR FURTHER INFORMATION CONTACT: Carlette Huntley, U. S. Department of Education, 330 C Street, SW., Washington, DC 20202-7274. Telephone: (202) 260-7272 or via Internet: Carlette.Huntley@ed.gov.

Individuals with disabilities may obtain this document, or an application package, in an alternative format (e.g., Braille, large print, audiotape, or computer diskette) on request to the contact person listed at the beginning of this section. However, the Department is not able to reproduce in an alternative format the standard forms included in the application package.

Electronic Access To This Document

You may view this document, as well as all other Department of Education documents published in the Federal Register, in text or Adobe Portable Document Format (PDF) on the Internet at the following site: http://www.ed.gov/legislation/FedRegister.

Program Authority: 20 U.S.C. 1211-2 (1991).

Dated: May 27, 2003.
Judge Eric Andell,
Deputy Under Secretary for Safe and Drug-Free Schools.

[FR Doc. 03-13836 Filed 6-2-03; 8:45 am]

BILLING CODE 4000-01-P